DEPARTMENT OF ENERGY

Federal Energy Regulatory Commission

[Project No. 14399-000]

North Star Hydro Services CA, LLC; Notice of Preliminary Permit Application Accepted for Filing and Soliciting Comments, Motions to Intervene, and Competing Applications

On March 30, 2012, North Star Hydro Services CA, LLC, Oklahoma, filed an application for a preliminary permit, pursuant to section 4(f) of the Federal Power Act (FPA), proposing to study the feasibility of the Boca Dam Hydropower Project (project) to be located on Little Truckee River, a tributary of the Truckee River, near the town of Truckee, Nevada County, California. The project would affect federal lands and facilities administered by the Bureau of Reclamation (Bureau). The sole purpose of a preliminary permit, if issued, is to grant the permit holder priority to file a license application during the permit term. A preliminary permit does not authorize the permit holder to perform any land-disturbing activities or otherwise enter upon lands or waters owned by others without the owners' express permission.

The proposed project would utilize existing facilities that include: the Bureau's 93-foot-high, earthfill, Boca dam; and double 50 inch, 530-feet-long steel pipes, serving as the primary outlet structure. No modifications would be made to the existing intake structure.

The proposed project would include: (1) One Kaplan turbine generating 1.7 megawatts; (2) an 86-foot-wide by 80-foot-long by 30-foot-high powerhouse with an attached 22-foot-wide by 80-foot-long control/office room; (3) an 80- to 125- foot-long tailrace; and (4) a 69-kilovolt transmission line interconnecting to an existing transmission line 0.25 mile southeast from the project site. The annual energy output would be approximately 4.6 gigawatthours.

Applicant Contact: David Holland, North Star Hydro Services CA, LLC, 1110 West 131st Street South, Jenks, Oklahoma 74037; phone (918) 398-0233.

FERC Contact: Carolyn Templeton; phone: (202) 502-8785.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14399) in the docket number field to access the document. For assistance, contact FERC Online Support.

Dated: August 31, 2012.
Kimberly D. Bose,
Secretary.

[FR Doc. 2012-22051 Filed 9-6-12; 8:45 am]

BILLING CODE 6717-01-P